DEPARTMENT OF LABOR

Employment and Training Administration

Proposed Collection for the Work Opportunity Tax Credit Program; Comment Request

AGENCY: Employment and Training Administration, Labor.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the consolidated Work Opportunity Tax Credit (WOTC) Program.

A copy of the proposed information collection request (ICR) can be obtained by contacting the office listed below in the addressee section of this notice or by accessing: http://www.doleta.gov/OMBCN/OMBControlNumber.cfm.

DATES: Written comments must be submitted to the office listed in the addressee's section below on or before March 10, 2008.

ADDRESSES: Submit written comments to the Employment and Training Administration, 200 Constitution Avenue, NW., Washington, DC 20210, Attention: Christine Ollis; Telephone number: 202-693-3937 (this is not a toll-free number). Fax: 202-693-3587. E-mail: ollis.christine@dol.gov.

SUPPLEMENTARY INFORMATION:

I. Background

Data on the consolidated WOTC Program will be collected by the State Workforce Agencies (SWAs) and provided to the Division of Adult Services, Office of Workforce Investment, Washington, DC, through the appropriate Department of Labor (DOL) regional offices via a quarterly management report. The data obtained from the administrative or processing forms will be used for WOTC national office program performance management and outcome reporting.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This is a request for Office of Management and Budget (OMB) approval under the Paperwork Reduction Act of 1995 (PRA95) (44 U.S.C. 3506(c)(2)(A)) to extend, with revisions, the collection of information and use of program materials for the consolidated WOTC Program. On May 25, 2007 the President signed into law the Small Business and Work Opportunity Tax Act of 2007 (Pub. L. 110-28). Section 8211 of this Act extended and modified the WOTC Program for a continuing 44-month period through August 31, 2011. The new provisions & amendments to certain target groups apply to new hires that begin to work for an employer after May 25. Another recent legislation, the Tax Relief and Health Care Act of 2006 (Pub. L. 109-432) signed into law on December 20, 2006 extended, retroactively, the WOTC for two additional years through December 31, 2007 and consolidated the program by merging the Welfare-to-Work Tax Credit into the WOTC. Section 105 of this Act also made various amendments and introduced new provisions that streamline the program and make it easier for the business sector to participate. The statutory changes and new provisions required that the following program report, processing and administrative forms, and materials be revised and updated to reflect the new changes and provisions: (1) ETA Form 9058—Report 1; (2) ETA Forms 9057, 9059, 9061-9063, and 9065; (3) ETA Handbook 408, Fourth Edition, November 2007; and (4) the Technical Assistance and Compliance Review Guide.

Further, the Government Paperwork Elimination Act (GPEA) of 1998 (Pub. L. 105-277) requires that, when feasible, Federal agencies design and implement the use of automated systems that facilitate the electronic signature and filing of forms (by participants) to conduct official business with the public by 2003. The Division of Adult Services, Office of Workforce Investment, complied with this requirement by successfully implementing an electronic reporting system for the tax credit program and the WOTC quarterly report. The automated reporting system is known as ETA's Enterprise Business Support System (EBSS) Tax Credit Reporting System (TCRS). The EBSS/TCRS is a Web-based system that allows states to meet the reporting responsibilities in a more efficient manner while reducing the reporting burden on the state, regional, and national levels. Through this system, states can manually enter or electronically upload the required quarterly data report, ETA Form 9058—Report 1.

Type of Review: Revision of Currently Approved Collection.

Agency: Employment and Training Administration.

Title: Work Opportunity Tax Credit Program.

OMB Number: 1205-0371.

Estimated Time per Respondent:

—
Requirement | Total respondents | Frequency | Annual response | Average response time in hours | Annual burden hours
Form 9058—Report 1 | 52 | Quarterly | 208 | 1:00 | 208
Employer/Job-seeker Complete Form 9061 | 990,000 | On occasion | 990,000 | .33 | 326,700
Form 9061 processed by SWAs | 52 | On occasion | 990,000 | .33 | 326,700
Form 9062 | 52 | On occasion | 40 | .33 | 13
Form 9063 | 52 | On occasion | 440,000 | .33 | 145,200
Form 9065 | 52 | Quarterly | 208 | 1:00 | 208
Record Keeping | 52 | Annually | 52 | 931 | 48,412
Form 9057 | 52 | Quarterly | 208 | 1.00 | 208
Form 9059 | 52 | Quarterly | 208 | 1.00 | 208
Planning Guidance | 52 | One Time | 52 | 8:00 | 416
Modification Planning Guidance | 52 | One Time | 52 | 1:00 | 52
Total | 990,520 |  | 2,421,028 |  | 848,325

Total Burden Hours: 848,325.

Total Burden Cost (capital/startup): 0.

Total Burden Cost (operating/maintaining): 0.

Comments submitted in response to this comment request will be summarized and/or included in the request for Office of Management and Budget approval of the information collection request; they will also become a matter of public record.

Dated: December 31, 2007.
Gay M. Gilbert,
Administrator, Office of Workforce Investment, Employment and Training Administration.

[FR Doc. E8-119 Filed 1-8-08; 8:45 am]

BILLING CODE 4510-FN-P